DEPARTMENT OF HOMELAND SECURITY

Coast Guard

33 CFR Part 100

[Docket No. USCG-2010-0383]

RIN 1625-AA08

Special Local Regulations for Marine Events; Patuxent River, Solomons, MD

AGENCY: Coast Guard, DHS.

ACTION: Supplemental notice of proposed rulemaking.

SUMMARY: This action is a supplemental notice of proposed rulemaking (SNPRM) to the Coast Guard's June 10, 2010, notice of proposed rulemaking (NPRM) that proposed special local regulations for the “Chesapeake Challenge” power boat races, a marine event to be held on the waters of the Patuxent River, near Solomons, MD on October 1, 2010. This supplemental proposal adds an additional date to the “Chesapeake Challenge” power boat racing on October 3, 2010. These special local regulations are necessary to provide for the safety of life on navigable waters during the event. This action is intended to temporarily restrict vessel traffic in a portion of the Patuxent River during the event.

DATES: Comments and related material must either be submitted on or before August 18, 2010 or reach the Docket Management Facility by that date.

ADDRESSES: You may submit comments identified by docket number USCG-2010-0383 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Mr. Ronald Houck, U.S. Coast Guard Sector Baltimore, MD; telephone 410-576-2674, e-mail Ronald.L.Houck@uscg.mil. If you have questions on viewing or submitting material to the docket, call Renee V. Wright, Program Manager, Docket Operations, telephone 202-366-9826.

SUPPLEMENTARY INFORMATION:

Public Participation and Request for Comments

We encourage you to respond to this notice by submitting comments and related materials. All comments received will be posted without change to http://www.regulations.gov and will include any personal information you have provided.

Submitting Comments

If you submit a comment, please include the docket number for this notice (USCG-2010-0383), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, inserting USCG-2010-0383 in the “Keyword” box, and then clicking “Search.” If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Documents

To view comments, as well as documents mentioned in this preamble as being available in the docket, go to http://www.regulations.gov, inserting USCG-2010-0383 in the “Keyword” box, and then clicking “Search.” You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before the comment period ends using one of the four methods specified under ADDRESSES. Please explain why you believe a public meeting would be beneficial. If we determine that one would aid in solving this problem, we will hold one at a time and place announced by a later notice in the Federal Register.

III. Background

On June 10, 2010, we published a notice of proposed rulemaking (NPRM) entitled “Special Local Regulations for Marine Events; Patuxent River, Solomons, MD” in the Federal Register (75 FR 111). The NPRM stated that on October 3, 2010, the Chesapeake Bay Powerboat Association will sponsor power boat races on the Patuxent River near Solomons, MD. The event consists of offshore power boats racing in a counter-clockwise direction on a racetrack-type course located between the Governor Thomas Johnson Memorial (SR-4) Bridge and the U.S. Naval Air Station Patuxent River, MD. The start and finish lines will be located near the Solomon's Pier. A large spectator fleet is expected during the event. Due to the need for vessel control during the event, the Coast Guard will temporarily restrict vessel traffic in the event area to provide for the safety of participants, spectators and other transiting vessels. After the NPRM was published in the Federal Register, however, the Chesapeake Bay Powerboat Association submitted a revised Application for Approval of Marine Event (form CG-4423), notifying the Coast Guard on June 25, 2010 that they seek approval to conduct power boat races on the Patuxent River near Solomons, MD on October 1, 2010 and on October 3, 2010. The additional day of power boat racing in Maryland is due to the relocation of the Offshore Powerboat Association's 2010 World Championship event from Alabama in light of the Deepwater Horizon oil spill.

IV. Information Requested

The Coast Guard proposes to establish temporary special local regulations on specified waters of the Patuxent River. The regulations will be in effect from 10 a.m. on October 1, 2010 until 6 p.m. on October 3, 2010. Enforcement of the special local regulations will be from 10 a.m. to 6 p.m. on October 1st and 3rd only. The public is invited to comment on all aspects of this proposed rule, especially the new effective dates. The regulated area is unchanged from the notice of proposed rulemaking. The regulated area is approximately 4,000 yards in length and 1,700 yards in width, includes all waters of the Patuxent River, within lines connecting the following positions: From latitude 38°19′45″ N, longitude 076°28′06″ W, thence to latitude 38°19′24″ N, longitude 076°28′30″ W, thence to latitude 38°18′32″ N, longitude 076°28′14″ W; and from latitude 38°17′38″ N, longitude 076°27′26″ W, thence to latitude 38°18′00″ N, longitude 076°26′41″ W, thence to latitude 38°18′59″ N, longitude 076°27′20″ W, located at Solomons, Maryland. The effect will be to restrict general navigation in the regulated area during the event. Spectator vessels will be allowed to view the event from a designated spectator area within the regulated area, located within a line connecting the following positions: Latitude 38°19′14″ N, longitude 076°28′16″ W, thence to latitude 38°18′00″ N, longitude 076°27′26″ W, thence to latitude 38°18′02″ N, longitude 076°27′20″ W, thence to latitude 38°19′16″ N, longitude 076°28′10″ W, thence to the point of origin at latitude 38°19′14″ N, longitude 076°28′16″ W. Spectator vessels viewing the event outside the regulated area may not block the navigable channel. Other vessels intending to transit the Patuxent River will be allowed to safely transit around the regulated area. These regulations are needed to control vessel traffic during the event to enhance the safety of participants, spectators and transiting vessels.

This document is issued under authority of 33 U.S.C. 1233.

Dated: July 7, 2010.
Mark P. O'Malley,
Captain, U.S. Coast Guard, Captain of the Port Baltimore, Maryland.

[FR Doc. 2010-17473 Filed 7-16-10; 8:45 am]

BILLING CODE 9110-04-P